Title 3—

The President

Executive Order 13675 of August 5, 2014

Establishing the President's Advisory Council on Doing Business in Africa

By the authority vested in me as President by the Constitution and the laws of the United States of America, and in order to promote broad-based economic growth and job creation in the United States and Africa by encouraging U.S. companies to trade with and invest in Africa, it is hereby ordered as follows:

Section 1. Policy. The United States recognizes that Africa is a region of growing economic opportunity and innovation and aims to expand a trade and investment partnership that is grounded in shared interests and mutual responsibility. Africa offers a diverse and broad range of trade and investment opportunities in national and regional markets. The U.S. Government will encourage U.S. companies to seize the trade and investment opportunities offered by Africa's national and regional markets and help drive inclusive and sustained economic growth and the region's economic expansion, while also creating jobs here in the United States.

Sec. 2. Establishment. Not later than 180 days after the date of this order, the Secretary of Commerce shall establish the President's Advisory Council on Doing Business in Africa (Advisory Council).

Sec. 3. Membership. (a) The Advisory Council shall consist of not more than 15 private sector corporate members, including small businesses and representatives from infrastructure, agriculture, consumer goods, banking, services, and other industries. The Advisory Council shall be broadly representative of the key industries with business interests in the functions of the Advisory Council as set forth in section 4 of this order. Appointments to the Advisory Council shall be made without regard to political affiliation.

(b) Members of the Advisory Council shall be appointed by the Secretary of Commerce, in consultation with the Trade Promotion Coordinating Committee (TPCC), which was authorized by statute in 1992 (15 U.S.C. 4727) and established by Executive Order 12870 of September 30, 1993.

Sec. 4. Functions. (a) The Advisory Council shall advise the President, through the Secretary of Commerce, on strengthening commercial engagement between the United States and Africa, with a focus on advancing the President's Doing Business in Africa Campaign as described in the U.S. Strategy Toward Sub-Saharan Africa of June 14, 2012.

(b) In providing the advice described in subsection (a) of this section, the Advisory Council shall provide information, analysis, and recommendations to the President that address the following, in addition to other topics deemed relevant by the President, the Secretary of Commerce, or the Advisory Council:

(i) creating jobs in the United States and Africa through trade and investment;

(ii) developing strategies by which the U.S. private sector can identify and take advantage of trade and investment opportunities in Africa;

(iii) building lasting commercial partnerships between the U.S. and African private sectors;

(iv) facilitating U.S. business participation in Africa's infrastructure development;

(v) contributing to the growth and improvement of Africa's agricultural sector by encouraging partnerships between U.S. and African companies to bring innovative agricultural technologies to Africa;

(vi) making available to the U.S. private sector an accurate understanding of the opportunities presented for increasing trade with and investment in Africa;

(vii) developing and strengthening partnerships and other mechanisms to increase U.S. public and private sector financing of trade with and investment in Africa;

(viii) analyzing the effect of policies in the United States and Africa on U.S. trade and investment interests in Africa;

(ix) identifying other means to expand commercial ties between the United States and Africa; and

(x) building the capacity of Africa's young entrepreneurs to develop trade and investment ties with U.S. partners.

Sec. 5. Administration. (a) The Department of Commerce shall provide funding and administrative support for the Advisory Council to the extent permitted by law and within existing appropriations.

(b) Members of the Advisory Council shall serve without either compensation or reimbursement of expenses.

(c) The Secretary of Commerce shall designate a senior officer or employee of the Department of Commerce to serve as the Executive Director for the Advisory Council.

(d) The Secretary of Commerce shall consult with the TPCC on matters and activities pertaining to the Advisory Council, including on activities related to implementation of the advice of the Advisory Council. The Secretary of Commerce shall invite representatives of TPCC agencies to attend meetings of the Advisory Council when issues relevant to their responsibilities are to be considered.

Sec. 6. Termination. The Advisory Council shall function for such period as may be necessary but shall terminate 2 years after the date of this order, unless extended by the President.

Sec. 7. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) Insofar as the Federal Advisory Committee Act (5 U.S.C. App.) (the “Act”) may apply to the Advisory Council, any functions of the President under the Act, except for those in section 6 of the Act, shall be performed by the Secretary of Commerce in accordance with the guidelines that have been issued by the Administrator of General Services.

THE WHITE HOUSE,

August 5, 2014.

[FR Doc. 2014-18998

Filed 8-7-14; 11:15 am]

Billing code 3295-F4